DEPARTMENT OF THE INTERIOR

Fish and Wildlife Service

Endangered and Threatened Species Permit Applications

ACTION: Notice of Receipt of Applications.

SUMMARY: The following applicants have applied for a permit to conduct certain activities with endangered species. This notice is provided pursuant to section 10(a) of the Endangered Species Act of 1973, as amended (16 U.S.C. 1531, et seq.).

Permit No. TE-20819

Applicant: Turner Collie & Braden, Inc., Houston, Texas.

Applicant requests authorization to conduct presence/absence surveys for the black-capped vireo (Vireo atricapillus), golden-cheeked warbler (Dendroica chrysoparia), red-cockaded woodpecker (Picoides borealis), and Houston toad (Bufo houstonensis) in various counties in Texas.

Permit No. TE-20844

Applicant: Engineering and Environmental Consultants, Inc. (EEC), Tucson, Arizona.

Applicant requests authorization to conduct presence/absence surveys for the cactus ferruginous pygmy-owl (Glaucidium brasilianum cactorum), and southwestern willow flycatcher (Empidonax traillii extimus) within Arizona.

Permit No. TE-21340

Applicant: HDR Engineering, Inc., Phoenix, Arizona.

Applicant requests authorization to conduct presence/absence surveys for the southwestern willow flycatcher (Empidonax traillii extimus), cactus ferruginous pygmy-owl (Glaucidium brasilianum cactorum), and desert tortoise (Gopherus agassizii) in Arizona and Nevada.

Permit No. TE-001781

Applicant: Lewisville Aquatic Ecosystem Research Facility, Lewisville, Texas.

Applicant requests authorization to incidentally take fountain darter (Etheostoma fonticola) eggs during biomass harvest of hydrilla in Spring Lake.

Permit No. TE-21563

Applicant: Debra A. Steinberg, Peoria, Arizona.

Applicant requests authorization to conduct presence/absence surveys for the cactus ferruginous pygmy-owl (Glaucidium brasilianum cactorum) in Pima and Pinal Counties, Arizona.

Permit No. TE-800900

Applicant: Lower Colorado River Authority, Austin, Texas.

Applicant requests authorization to conduct presence/absence surveys for the bald eagle (Haliaeetus leucocephalus) along the 5 central Texas lakes and the Colorado River's run to the Gulf of Mexico.

Permit No. TE-800923

Applicant: University of Arizona, Department of Ecology and Evolutionary Biology, Tucson, Arizona.

Applicant requests authorization for scientific research and recovery purposes to capture/collect from the wild and/or captive-bred specimens of the Gila topminnow (Poeciliopsis occidentalis occidentalis), Yaqui chub (Gila purpurea), desert pupfish (Cyprinodon macularius), and Colorado squawfish (Ptychocheilus lucius) from various sources and locations in Arizona.

Permit No. TE-21847

Applicant: USGS, Columbia Environmental Research Center, Columbia, Missouri.

Applicant requests authorization to conduct scientific research using the fountain darter (Etheostoma fonticola), the Colorado pikeminnow (Ptychocheilus lucius), and the razorback sucker (Xyrauchen texanus) using captive-bred specimens.

Permit No. TE-21873

Applicant: The Nature Conservancy, Texas Chapter, Ft. Hood, Texas.

Applicant requests authorization to net, band, and survey for the golden-cheeked warbler (Dendroica chrysoparia), and black-capped vireo (Vireo atricapillus) at Fort Hood in Bell and Coryell Counties, Texas.

Permit No. TE-21881

Applicant: TRC Co. Inc., Albuquerque, New Mexico.

Applicant requests authorization to conduct presence/absence surveys for the southwestern willow flycatcher (Empidonax traillii extimus) in New Mexico, Arizona, and Texas.

Permit No. TE—21887

Applicant: Karen L. Dryden, Litchfield Park, Arizona.

Application requests authorization to conduct presence/absence surveys for the cactus ferruginous pygmy-owl (Glaucidium brasilianum cactorum) in Pima and Pinal Counties, Arizona.

DATES: Written comments on these permit applications must be received on or before February 22, 2000.

ADDRESSES: Written data or comments should be submitted to the Legal Instruments Examiner, Division of Endangered Species/Permits, Ecological Services, P.O. Box 1306, Albuquerque, New Mexico 87103. Please refer to the respective permit number for each application when submitting comments. All comments received, including names and addresses, will become part of the official administrative record and may be made available to the public.

FOR FURTHER INFORMATION CONTACT: The U.S. Fish and Wildlife Service, Ecological Services, Division of Endangered Species/Permits, P.O. Box 1306, Albuquerque, New Mexico 87103. Please refer to the respective permit number for each application when requesting copies of documents.

Documents and other information submitted with these applications are available for review, subject to the requirements of the Privacy Act and Freedom of Information Act, by any party who submits a written request for a copy of such documents within 30 days of the date of publication of this notice, to the address above.

Susan MacMullin,
Programmatic Assistant Regional Director, Ecological Services, Region 2, Albuquerque, New Mexico.

[FR Doc. 00-1449 Filed 1-20-00; 8:45 am]

BILLING CODE 4510-01-P